DEPARTMENT OF TRANSPORTATION

Federal Aviation Administration

14 CFR Part 71

[Airspace Docket No. 00-ANM-20]

RIN 2120-AA66

Amend Legal Description of Jet Route J-501

AGENCY: Federal Aviation Administration (FAA), DOT.

ACTION: Final rule; correction.

SUMMARY: This action corrects a final rule published in the Federal Register on November 20, 2000. The legal description of Jet Route 501 (J-501) contained an inadvertent error that included the intersection of the Bethel 258° radial and the Anchorage CTA/FIR boundary. This action corrects that error by removing the reference to the intersection.

EFFECTIVE DATE: 0901 UTC, January 25, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On November 20, 2000, Airspace Docket No. 00-ANM-20 (65 FR 69664), was published amending the legal description of J-501. This description contained an inadvertent error that included the intersection of the Bethel 258° radial and the Anchorage CTA/FIR boundary. This action corrects that error by removing the reference to the intersection.

Correction to Final Rule

Accordingly, pursuant to the authority delegated to me, the legal description for J-501, as published in the Federal Register on November 20, 2000, (65 FR 69664), and incorporated by reference in 14 CFR 71.1, is corrected as follows:

§ 71.1 [Corrected]

On page 69665, correct the legal description of J-501, to read as follows:

Paragraph 2004—Jet Routes

* * * * *

J-501 [Amended]

From San Marcus, CA, via Big Sur, CA; Point Reyes, CA, via Rogue Valley, OR; Hoquiam, WA; INT Hoquiam 354° and Tatoosh, WA, 162° radials; Tatoosh; Tofino, BC, Canada, RBN. From Sandspit, BC, Canada; Biorka Island, AK; Yakutat, AK; Johnstone Point, AK; Anchorage, AK; Sparrevohn, AK; Bethel, AK; excluding the airspace within Canada.

* * * * *

Issued in Washington, DC, on January 10, 2001.
Reginald C. Matthews,
Manager, Airspace and Rules Division.

[FR Doc. 01-1853 Filed 1-19-01; 8:45 am]

BILLING CODE 4910-13-P